DEPARTMENT OF THE INTERIOR

Bureau of Indian Affairs

[145A2100DD-AADD001000.A0E501010.999900]

Indian Education Study Group

AGENCY: Bureau of Indian Affairs, Interior.

ACTION: Notice of tribal consultation.

SUMMARY: The Department of the Interior, in conjunction with the U.S. Department of Education (ED), will conduct a series of consultation sessions with Indian tribes to review and provide feedback on the draft actionable recommendations prepared by the American Indian Education Study Group.

DATES: Submit written comments on or before June 2, 2014.

ADDRESSES: Written comments may be submitted to: Jacquelyn Cheek, Special Assistant to the Director, Bureau of Indian Education, 1849 C Street NW., Mail Stop 3609, Washington, DC 20240; telephone (202) 208-6983 or fax (202) 208-3312 or by email to IAEDTC-CMTS@bia.gov.

FOR FURTHER INFORMATION CONTACT: Jacquelyn Cheek, Special Assistant to the Director, Bureau of Indian Education, at the above listed address and telephone number.

SUPPLEMENTARY INFORMATION: The Secretaries of the U.S. Department of the Interior (DOI) and the U.S. Department of Education (ED) have convened an American Indian Education Study Group (Study Group) to determine how to effectively fulfill President Obama's vision for Indian Education. The Study Group focused on how to facilitate tribal sovereignty in American Indian education and how to improve educational outcomes for students attending BIE-funded schools. The Study Group previously engaged with tribal leaders and Indian educators in six listening sessions on improving Indian education for BIE to develop draft actionable recommendations.

Based on input from these listening sessions, the Study Group has identified a framework for reform with a goal of high-achieving tribally controlled schools. This goal would allow the schools to deliver methods and practices for every BIE student to meet and exceed high expectations and be well prepared for college, careers, and tribal and global citizenship. The Study Group believes that, in order to reach this goal, the Obama Administration, Congress, and tribes must focus on the following four pillars of reform:

• Pillar One: Effective Teachers and Principals—Help tribes identify, recruit, retain and empower diverse, highly effective teachers and principals to maximize student achievement in all tribally controlled schools.

• Pillar Two: Agile Organizational Environment—Build a responsive organization with appropriate authority, resources, and services to tribes so they can help their students attain high levels of student achievement.

• Pillar Three: A Budget That Supports New Capacity Building Mission—Develop a budget that is aligned to and supports BIE's new mission of tribal capacity building and scaling up best practices.

• Pillar Four: Comprehensive Supports Through Partnerships—Foster and cultivate family, community and organizational partnerships to provide the social and emotional supports BIE students need in order to be ready to learn.

The Study Group will hear input from tribal representatives on these pillars of reform and the actionable recommendations at consultation sessions and by written comment. Tribal representatives are invited to discuss other education topics and concerns, as time allows. If a tribal representative cannot attend, we invite you to submit written comments to the contact listed in the ADDRESSES section.

The table below provides the date, time, and location for each consultation session:

Date | Time (all times local) | Location
Monday, April 28, 2014 | 9 a.m. to 5 p.m | Loneman Day School, Oglala, SD.
Wednesday, April 30, 2014 | 9 a.m. to 5 p.m | Riverside Indian School, Anadarko, OK.
Friday, May 2, 2014 | 9 a.m. to 5 p.m | Muckleshoot School, Auburn, WA.
Monday, May 5, 2014 | 9 a.m. to 5 p.m | Gila River Head Start Bldg., Sacaton, AZ.

For additional information on the consultation sessions and the Study Group, please visit: http://www.bie.edu/NewsEvents/StudyGroup/index.htm.

Dated: March 21, 2014.
Kevin K. Washburn,
Assistant Secretary—Indian Affairs.

[FR Doc. 2014-06829 Filed 3-26-14; 8:45 am]

BILLING CODE 4310-6W-P